DEPARTMENT OF THE INTERIOR

National Park Service

General Management Plan, Final Environmental Impact Statement, Navajo National Monument, AZ

AGENCY: National Park Service, Department of the Interior.

ACTION: Notice of availability of a Record of Decision on the Final Environmental Impact Statement for the General Management Plan, Navajo National Monument.

SUMMARY: Pursuant to § 102(2)(C) of the National Environmental Policy Act of 1969, Pub. L. 91-190, 83 Stat. 852, 853, codified as amended at 42 U.S.C. 4332(2)(C), the National Park Service announces the availability of the Record of Decision for the General Management Plan/Final Environmental Impact Statement for Navajo National Monument, Arizona. On March 11, 2004, the Director, Intermountain Region approved the Record of Decision for the project. As soon as practicable, the National Park Service will begin to implement the Preferred Alternative contained in the FEIS issued on October 22, 2003. The following course of action will occur under the preferred alternative:

The National Park Service would continue to manage the existing land base and in addition would share common goals with American Indian tribes and others to protect resources and promote visitor understanding of the entire region. The NPS would look beyond the boundary for accomplishing joint purposes through cooperation and partnerships. Opportunities for more innovative and diverse programs, education and outreach, science and research, cross training, and broader resource management would be greatly enhanced by a collaborative regional effort. This course of action and two alternatives were analyzed in the Draft and Final Environmental Impact Statements. The full range of foreseeable environmental consequences was addressed, and appropriate mitigating measures were identified.

The Record of Decision includes a statement of the decisions made, synopses of other alternatives considered, the basis for the decision, a description of the environmentally preferred alternative, a finding on impairment of park resources and values, a listing of measures to minimize environmental harm, and an overview of public involvement in the decision-making process.

FOR FURTHER INFORMATION CONTACT: The office of the Superintendent, Roger Moder, Navajo National Monument, HC 71, Box 3, Tonalea, Arizona 86044-9704. Phone: (928) 672-2700 or e-mail the park at the park Web site “contact us” section at: http://www.nps.gov/nava/pphtml/contact.html.

SUPPLEMENTARY INFORMATION: Copies of the Record of Decision may be obtained from the contacts above or online at: http://www.nps.gov/planning/nava.

Dated: March 11, 2004.
Stephen P. Martin,
Director, Intermountain Region, National Park Service.

[FR Doc. 04-11167 Filed 5-17-04; 8:45 am]

BILLING CODE 4312-EH-P